DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security.

Title: Miscellaneous Short Supply Activities.

OMB Control Number: 0694-0102.

Form Number(s): N/A.

Type of Request: Regular Submission.

Burden Hours: 201 hours.

Number of Respondents: 1 respondent.

Average Hours per Response: 201 hours per response.

Needs and Uses: This information collection is comprised of two rarely used short supply activities: “Registration of U.S. Agricultural Commodities for Exemption From Short Supply Limitations on Export”, and “Petitions for the Imposition of Monitoring or Controls on Recyclable Metallic materials; Public Hearings.” These activities are statutory in nature and, therefore, must remain a part of BIS's information collection budget authorization.

Affected Public: Businesses and other for-profit institutions.

Frequency: On occasion.

Respondent's Obligation: Required to obtain benefits.

OMB Desk Officer: Jasmeet Seehra, Fax number (202) 395-7285.

Copies of the above information collection proposal can be obtained by calling or writing Jennifer Jessup, Departmental Paperwork Clearance Officer, (202) 482-0336, Department of Commerce, Room 6616, 14th and Constitution Avenue NW., Washington, DC 20230 (or via the Internet at jjessup@doc.gov.

Written comments and recommendations for the proposed information collection should be sent within 30 days of publication of this notice to Jasmeet Seehra, Office of Management and Budget (OMB), by email to jseehra@omb.eop.gov, or by fax to (202) 395-7285.

Dated: March 23, 2012.
Glenna Mickelson,
Management Analyst, Office of the Chief Information Officer.

[FR Doc. 2012-7410 Filed 3-27-12; 8:45 am]

BILLING CODE 3510-33-P